DEPARTMENT OF TRANSPORTATION

Federal Railroad Administration

[Docket Number FRA-2008-0028]

Petition for Waiver of Compliance

Under Part 211 of Title 49 Code of Federal Regulations (CFR), this provides the public notice that on November 14, 2017, Riverport Railroad, LLC (RVPR), petitioned the Federal Railroad Administration (FRA) for a waiver of compliance from certain provisions of the Federal railroad safety regulations contained at 49 CFR part 223. FRA assigned the petition Docket Number FRA-2008-0028.

Specifically, RVPR seeks to renew a waiver of compliance from the glazing regulations in 49 CFR 223.11, Requirements for existing locomotives, for one locomotive, identified as RVPR 4029. RVPR is a terminal/switching railroad on the former Department of Defense (DOD) Savanna Army Depot. This installation is located in rural northwestern Illinois in Jo Daviess and Carroll Counties. RVPR states they own 80 percent of the adjoining land, and the other 20 percent is privately owned and access controlled. The BNSF Railway interchanges cars with RVPR at Robinson Spur where there are eight interchange tracks. All trackage is enclosed and there are no overhead structures or bridges where objects could be thrown at trains. RVPR operates at 10 miles per hour or less, and provides car storage for customers, as well as servicing a railcar repair and a railcar cleaning company.

The locomotive is a 60-ton 500-horsepower diesel electric locomotive numbered 4029. This engine was manufactured in 1950 and remanufactured for DOD between 1987 and 1990. This unit has safety glass in all cab windows, but they are marked in accordance with DOD standards.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 8, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-25363 Filed 11-22-17; 8:45 am]

BILLING CODE 4910-06-P